OFFICE OF SCIENCE AND TECHNOLOGY POLICY

Meeting of the President's Council of Advisors on Science and Technology

ACTION: Notice of meeting.

SUMMARY: This notice sets forth the schedule and summary agenda for a meeting of the President's Council of Advisors on Science and Technology (PCAST), and describes the functions of the Council. Notice of this meeting is required under the Federal Advisory Committee Act (FACA).

Dates and Place: March 5, 2002, Washington, DC. This meeting will take place in the Board Room of the American Institute of Architects, 1735 New York Avenue, NW, Washington, DC.

Type of Meeting: Open.

Proposed Schedule and Agenda: The President's Council of Advisors on Science and Technology is tentatively scheduled to meet in open session on Tuesday, March 5, 2002, at approximately 10:30 a.m., to discuss: (1) The science and technology of combating terrorism; (2) policies and technologies to improve energy efficiency; (3) the federal investment in science and technology research and development; and (4) demand issues that can speed the deployment of a 21st Century broadband infrastructure. The work of the PCAST panels on these topics will also be discussed. This session will end at approximately 4:30 p.m.

Public Comments: There will be a time allocated for the public to speak on any of the above agenda items. Please make your request for the opportunity to make a public comment five (5) days in advance of the meeting. The time for public comments will be limited to no more than 5 minutes per person. Written comments are welcome at any time prior to or following the meeting. Please notify Stan Sokul, PCAST Executive Director, at (202) 456-6070, or fax your request/comments to (202) 456-6021.

FOR FURTHER INFORMATION: For information regarding time, place and agenda, please call Cynthia Chase at (202) 456-6010, prior to 3:00 p.m. on Friday, March 1, 2002. Information may also be available at the PCAST Web site at: http://www.ostp.gov/PCAST/pcast.html. Please note that public seating for this meeting is limited and is available on a first-come, first-served basis.

SUPPLEMENTARY INFORMATION: The President's Council of Advisors on Science and Technology was established by Executive Order 13226, on September 30, 2001. The purpose of PCAST is to advise the President on matters of science and technology policy, and to assist the President's National Science and Technology Council in securing private sector participation in its activities. The Council members are distinguished individuals appointed by the President from non-Federal sectors. The PCAST is co-chaired by Dr. John H. Marburger, III, the Director of the Office of Science and Technology Policy, and by E. Floyd Kvamme, a Partner at Kleiner Perkins Caufield & Byers.

Barbara Ann Ferguson,
Assistant Director for Budget and Administration, Office of Science and Technology Policy.

[FR Doc. 02-3885 Filed 2-15-02; 8:45 am]

BILLING CODE 3170-01-P